DEPARTMENT OF TRANSPORTATION

Pipeline and Hazardous Materials Safety Administration

49 CFR Parts 191, 192, and 193

[Docket No. PHMSA-2021-0039]

RIN 2137-AF51

Pipeline Safety: Gas Pipeline Leak Detection and Repair

AGENCY: Pipeline and Hazardous Materials Safety Administration (PHMSA), Department of Transportation (DOT).

ACTION: Notice of proposed rulemaking; extension of comment period.

SUMMARY: On May 18, 2023, PHMSA published a Notice of Proposed Rulemaking (NPRM) in the Federal Register titled: “Pipeline Safety: Gas Pipeline Leak Detection and Repair.” PHMSA received requests to extend the comment period for stakeholders to have more time to evaluate the NPRM. PHMSA is therefore extending the comment period to August 16, 2023.

DATES: The comment period for the proposed rule published at 88 FR 31890 on May 18, 2023, is extended from July 17, 2023 to August 16, 2023. The agency will, consistent with 49 CFR 190.323, consider late-filed comments to the extent practicable.

ADDRESSES: You may submit comments identified by the docket number PHMSA-2021-0039 by any of the following methods:

E-Gov Web: https://www.regulations.gov. This site allows the public to enter comments on any Federal Register notice issued by any agency. Follow the online instructions for submitting comments.

Mail: Docket Management System: U.S. Department of Transportation, 1200 New Jersey Avenue SE, West Building Ground Floor, Room W12-140, Washington, DC 20590-0001.

Hand Delivery: U.S. DOT Docket Management System, West Building Ground Floor, Room W12-140, 1200 New Jersey Avenue SE, Washington, DC 20590-0001 between 9 a.m. and 5 p.m., Monday through Friday, except Federal holidays.

Fax: 1-202-493-2251.

Instructions: Please include the docket number PHMSA-2021-0039 at the beginning of your comments. If you submit your comments by mail, submit two copies. If you wish to receive confirmation that PHMSA has received your comments, include a self-addressed stamped postcard. Internet users may submit comments at https://www.regulations.gov/.

Note: Comments are posted without changes or edits to https://www.regulations.gov, including any personal information provided. There is a privacy statement published on https://www.regulations.gov.

Privacy Act: In accordance with 5 U.S.C. 553(c), DOT solicits comments from the public to better inform its rulemaking process. DOT posts these comments, without edit, including any personal information the commenter provides, to www.regulations.gov, as described in the system of records notice (DOT/ALL-14 FDMS), that can be reviewed at www.dot.gov/privacy.

Confidential Business Information: Confidential Business Information (CBI) is commercial or financial information that is both customarily and actually treated as private by its owner. Under the Freedom of Information Act (FOIA, 5 U.S.C. 552), CBI is exempt from public disclosure. If your comments responsive to this document contain commercial or financial information that is customarily treated as private, that you actually treat as private, and that is relevant or responsive to this notice, it is important that you clearly designate the submitted comments as CBI. Pursuant to 49 CFR 190.343, you may ask PHMSA to give confidential treatment to information you give to the agency by taking the following steps: (1) mark each page of the original document submission containing CBI as “Confidential”; (2) send PHMSA, along with the original document, a second copy of the original document with the CBI deleted; and (3) explain why the information you are submitting is CBI. Submissions containing CBI should be sent to Sayler Palabrica, Office of Pipeline Safety (PHP-30), Pipeline and Hazardous Materials Safety Administration (PHMSA), 2nd Floor, 1200 New Jersey Avenue SE, Washington, DC 20590-0001, or by email at sayler.palabrica@dot.gov. Any commentary PHMSA receives that is not specifically designated as CBI will be placed in the public docket.

Docket: For access to the docket to read background documents or comments received, go to http://www.regulations.gov. Follow the online instructions for accessing the docket. Alternatively, you may review the documents in person at the street address listed above.

FOR FURTHER INFORMATION CONTACT: Sayler Palabrica, Transportation Specialist, by telephone at 202-744-0825 or by email at sayler.palabrica@dot.gov.

SUPPLEMENTARY INFORMATION:

Background

On May 18, 2023, PHMSA issued a Notice of Proposed Rulemaking titled “Pipeline Safety: Gas Pipeline Leak Detection and Repair” ¹ that proposed amendments to the pipeline safety regulations for gas distribution, gas transmission, gas gathering, underground natural gas storage, and liquefied natural gas storage facilities. Since the publication of the NPRM, PHMSA has received comment extension requests from the following entries:

¹ 88 FR 31890 (May 18, 2023).

• National Association of Pipeline Safety Representatives

• Gas Piping Technology Committee

• Interstate Natural Gas Association of America, American Fuel and Petrochemical Manufacturers, American Gas Association, American Petroleum Institute, American Public Gas Association, and the GPA Midstream Association

• Marcellus Shale Coalition

• NiSource Inc.

PHMSA will extend the comment period for the NPRM from July 17, 2023, to August 16, 2023. Consistent with 49 CFR 190.323, PHMSA will consider late-filed comments to the extent practicable.

Issued in Washington, DC, on June 26, 2023, under authority delegated in 49 CFR 1.97.
Alan K. Mayberry,
Associate Administrator for Pipeline Safety.

[FR Doc. 2023-13900 Filed 6-29-23; 8:45 am]

BILLING CODE 4910-60-P